POSTAL SERVICE

Privacy Act of 1974, System of Records

AGENCY: Postal Service.

ACTION: Advance notice of amendment to an existing system of records.

SUMMARY: The Postal Service proposes to amend Postal Service Privacy Act System of Records 120.090, Personnel Records—Medical Records. The proposed amendments reflect the collection, maintenance, and storage of candidate medical assessment records for Postal Service employment. The system is a Web-based application with a secure user-friendly interface that allows nontechnical medical staff to collect, maintain, and store post-offer candidate medical assessment records. The system will ensure Human Resources staff has ready access to ability-to-work information about these candidates. This notice amends the system location, categories of individuals covered by the system, categories of records in the system, storage, retrievability, safeguards, and retention and disposal sections to reflect the new process for collection, maintenance, and storage of medical assessment records. Other minor changes are included to bring the notice into conformity with current practices.

DATES: This proposal will become effective without further notice on December 17, 2001, unless comments received on or before that date result in a contrary determination.

ADDRESSES: Mail or deliver written comments to the Records Office, U.S. Postal Service, Room 5821, 475 L'Enfant Plaza, SW., Washington, DC 20260-5202. You can view or make copies of all written comments between 8 a.m. and 4 p.m., Monday through Friday, at the same address.

FOR FURTHER INFORMATION CONTACT: Susie Travers, Records Office, 202-268-3362.

SUPPLEMENTARY INFORMATION: The electronic Medical Assessment Program (eMAP) is a Web-based application that streamlines the manual process of collecting, analyzing, maintaining, and storing medical data on candidates who have been offered employment with the Postal Service.

Authorized Human Resources personnel with the appropriate access authorization will use the eMAP application to enter the candidate information into the centralized eMAP database, creating a candidate record. Authorized Human Resources personnel will then contact the candidate to schedule the assessment at an authorized Medical Assessment Program (MAP) site. Authorized medical personnel at MAP sites will use the eMAP application to display a list of candidates required to appear at the assigned MAP site office for a medical assessment. When the candidate appears at the MAP site office, the candidate's identity will be verified and he or she will be given the Medical History Questionnaire and answer sheet for completion. The answer sheet will be an optical mark recognition (OMR) form that the candidate can easily use to indicate his or her responses to the questionnaire by shading in the appropriate oval on the form. When the candidate completes the questionnaire, the authorized MAP site medical personnel will scan the form using an OMR scanner. The candidate's responses will be recorded automatically by the eMAP application, and the results will be immediately displayed to the authorized MAP site medical personnel for verification of a successful scan. The results from a successful scan will be stored in a permanent centralized eMAP database that will use a unique encrypted code for candidate identification. The eMAP application will generate and record timestamp information as the candidate proceeds through the medical assessment process and will produce printed letters as needed. Authorized eMAP users will be able to generate standard, predefined printed reports at the MAP site, district, area, and national levels. Authorized application users will be allowed to easily add, annotate, or inactivate candidate assessment records. Candidate inactivated records will remain in the database. A copy of each candidate's medical information will be printed and retained in the medical office. Candidate medical information includes the medical history questionnaire; answer sheet containing the candidate's responses; copy of job application, job description and functional requirements; and supporting medical information acquired in the process of reaching a medical determination of ability to work. If the candidate is hired, the candidate's medical information is retained in the employee medical file (EMF).

Candidate and response data obtained from sites currently using the existing Medical History Questionnaire with the stand-alone application (MAQ or MAP version 1) will be imported into the eMAP database, one time only, using a utility that automates the process with minimal user interaction. After the MAQ data are imported into eMAP, MAP sites will no longer use MAP version 1.

The proposed amendments are not expected to diminish individual privacy rights. Only authorized users who have an official need-to-know in the performance of their job functions will be allowed access to the application or will have the ability to review the medical information. Access to computer data will be restricted through the use of computer password security and data encryption. Printed copies of questionnaires and medical information will be stored in locked file cabinets with restricted access.

Pursuant to 5 U.S.C. 552a(e)11, interested persons are invited to submit written data, views, or arguments on this proposal. A report of the amendments has been sent to the Congress and to the Office of Management and Budget for their evaluation. It is proposed that the system description be amended as follows:

USPS 120.090

SYSTEM NAME:

Personnel Records—Medical Records, 120.090.

SYSTEM LOCATION:

[CHANGE TO READ]

Postal Service medical facilities and designee offices, Postal Service Corporate Health and Fitness Center (L'Enfant Plaza location only), and Postal Service personnel offices (rosters of examinees scheduled for medical assessment only).

CATEGORIES OF INDIVIDUALS COVERED BY THE SYSTEM:

[CHANGE TO READ]

Present and former Postal Service employees and individuals who have been offered employment but failed the medical examination before being placed on the rolls, or who declined the offer; and any Headquarters employees who participate in the Corporate Health and Fitness Program.

CATEGORIES OF RECORDS IN THE SYSTEM:

[CHANGE TO READ]

Name, address, job title, Social Security number, installation, illness, supervisor's and physician's reports (on Authorizations for Medical Attention); relevant medical history and medical assessments including physical examinations, treatment received at the health unit, occupational injuries or illnesses, substance abuse information, findings, diagnosis and treatment, doctors' statements and recommendations, records of immunizations, and medical findings related to employee's exposure to toxic substances. In addition, Headquarters employees who participate in the Corporate Health and Fitness Program will voluntarily provide data about their lifestyle, exercise schedule, smoking habits, knowledge about personal health, personal and family medical history, nutrition, stress levels, and other data relevant to making a health risk appraisal. Records of participant employees' individualized schedules and progress may be kept.

STORAGE:

[CHANGE TO READ]

Preprinted forms, paper files (Official Medical Folders), and magnetic tapes or disks (candidate medical assessments); preprinted forms, paper files, and hard copy computer storage (Corporate Health and Fitness Center records) are stored in limited access areas with appropriate physical and environmental controls to ensure the confidentiality and physical integrity of the information.

RETRIEVABILITY:

[CHANGE TO READ]

Employee name, Social Security number, and location.

SAFEGUARDS:

[CHANGE TO READ]

Printed copies of medical records are kept in locked file cabinets with controlled physical access, restricted to individuals who need to know the information in performance of their job functions. Access to computer data is restricted to authorized personnel with a need to know the information in the performance of their job functions and is protected through computer password controls and data encryption. Access to automated Corporate Health and Fitness Center records is restricted by password protection to medical screening personnel and health and fitness specialists under contract to operate the Corporate Health and Fitness Program facility at Headquarters.

RETENTION AND DISPOSAL:

[CHANGE TO READ]

a. Employee Medical Folder (EMF)—Medical records considered permanent are maintained until the employee is separated from the Postal Service, and then the records are sent to the National Personnel Records Center for storage or to the federal agency that now employs the individual. The records are kept for 30 years from the date the employee separates from federal service. Security and privacy of the EMF is safeguarded by the processes and procedures described in Postal Service Management Instruction EL-860-98-2, Employee Medical Records. Computer data is archived from the active database to a history database after 3 years and retained in the history database indefinitely.

b. Candidate medical information of failed eligibles (and those who cleared but ultimately declined the offer)—Candidate medical information, which includes the medical history questionnaire, answer sheet containing the candidate's responses, copy of job application, job description and functional requirements, and supporting medical information acquired in the process of reaching a medical determination of ability to work is retained in the medical office and destroyed by shredding after 2 years. Computer data are archived from the active database to a history database after 3 years and retained in the history database indefinitely.

c. Authorization for Medical Attention (Form 3956)—The form is destroyed after 2 years.

d. Corporate Health and Fitness Center records—The record is retained by the contractor operating the Health and Fitness Center until termination of the contract, at which time the record must be returned to the Postal Service.

Stanley F. Mires,
Chief Counsel, Legislative.

[FR Doc. 01-28552 Filed 11-14-01; 8:45 am]

BILLING CODE 7710-12-P